DEPARTMENT OF ENERGY

Federal Energy Regulatory Commission

[Project No. 12769-000]

Ice House Partners, Inc.; Notice Soliciting Scoping Comments

May 2, 2007.

Take notice that the following hydroelectric application has been filed with the Commission and is available for public inspection.

a. Type of Application: Exemption from Licensing.

b. Project No.: P-12769-000.

c. Date filed: January 22, 2007.

d. Applicant: Ice House Partners, Inc.

e. Name of Project: Ice House Power Project.

f. Location: On the Nashua River in the Town of Ayer, Middlesex County, Massachusetts. The project would utilize lands of the United States.

g. Filed Pursuant to: Public Utilities Regulatory Policies Act of 1978, 16 U.S.C. §§ 2705, 2708.

h. Applicant Contact: Liisa Dowd, Ice House Partners, Inc., 323 West Main Street, Ayer, MA 01432, (978) 772-3303.

i. FERC Contact: Tom Dean, (202) 502-6041.

j. Deadline for filing scoping comments: June 1, 2007.

All documents (original and eight copies) should be filed with: Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “eFiling” link.

k. This application is not ready for environmental analysis at this time.

l. The Ice House Project would consist of: (1) The 300-foot-long, 10-foot-high Ice House dam consisting of a 210-foot-long spillway topped with reinstalled flashboards; (2) a 137-acre reservoir with a normal full pond elevation of 217 feet National Geodetic Vertical Datum with flashboards installed; (3) an existing 50-foot-wide, 600-foot-long power canal; (4) a restored powerhouse containing two retrofitted generating units with a total installed capacity of 270 kilowatts (kW); (5) an existing transmission line; and (6) appurtenant facilities. The project would have an average annual generation of 2,500,000 kW-hours.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

n. You may also register online at http://www.ferc.gov.esubscribenow.htm to be notified via e-mail of new filings and issuances related to this or other pending projects. For assistance, contact FERC Online Support.

o. Scoping Process

The Commission staff intends to prepare a single Environmental Assessment (EA) for the Ice House Project in accordance with the National Environmental Policy Act. The EA will consider both site-specific and cumulative environmental impacts and reasonable alternatives to the proposed action.

Commission staff do not propose to conduct any on-site scoping meetings at this time. Instead, we are soliciting comments, recommendations, and information, on the Scoping Document (SD) issued on May 1, 2007.

Copies of the SD outlining the subject areas to be addressed in the EA were distributed to the parties on the Commission's mailing list. Copies of the SD may be viewed on the web at http://www.ferc.gov using the “eLibrary” link. Enter the docket number excluding the last three digits in the docket number field to access the document. For assistance, call 1-866-208-3676 or for TTY, (202) 502-8659.

Kimberly D. Bose,
Secretary.

[FR Doc. E7-8851 Filed 5-8-07; 8:45 am]

BILLING CODE 6717-01-P